SOCIAL SECURITY ADMINISTRATION

Agency Information Collection Activities: Proposed Request and Comment Request

The Social Security Administration (SSA) publishes a list of information collection packages that will require clearance by the Office of Management and Budget (OMB) in compliance with P.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses: (OMB), Office of Management and Budget, Attn: Desk Officer for SSA, New Executive Office Building, Room 10230, 725 17th St., NW., Washington, DC 20503; (SSA), Social Security Administration, DCFAM, Attn: Frederick W. Brickenkamp, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-4145, or by writing to him at the address listed above.

1. Function Report—Third Party, SSA-3380-0960-NEW. The Social Security Act provides that claimants must furnish medical and other evidence to prove they are disabled. The Social Security Act also gives the Commissioner authority to make rules and regulations on the nature and extent of evidence required as well as the methods of obtaining evidence. The information collected from third parties on the form SSA-3380 is needed for the determination of disability under Title II (Old-Age, Survivors and Disability Insurance (OASDI)) and/or Title XVI (Supplemental Security Income (SSI)). The form records information about the disability applicant's illnesses, injuries, conditions, impairment-related limitations and ability to function. The respondents are individuals who know about the disability applicant's impairment, limitations and ability to function.

Number of Respondents: 1,500,000.

Frequency of Response: 1.

Average Burden Per Response: 30 minutes.

Estimated Annual Burden: 750,000 hours.

2. Disability Hearing Officer's Decision—0960-0441. The Social Security Act requires that SSA provide an evidentiary hearing at the reconsideration level of appeal for claimants who have received an initial or revised determination that a disability did not exist or has ceased. Based on the hearing, the disability hearing officer (DHO) completes an SSA-1207 and applicable supplementary forms (which apply to the type of claim involved). The DHO uses the information in documenting and preparing the disability decision. The form will aid the DHO in addressing the crucial elements of the case in a sequential and logical fashion. The respondents are DHOs in the State Disability Determination Services (DDS).

Number of Respondents: 100,000.

Frequency of Response: 1.

Average Burden Per Response: 45 minutes.

Estimated Annual Burden: 75,000 hours.

3. Medical History and Disability Report, Disabled Child—0960-0577. The Social Security Act requires claimants to furnish medical and other evidence to prove they are disabled. The form SSA-3820 is used to obtain various types of information about a child's condition, his/her treating sources and/or other medical sources of evidence. The information collected on the SSA-3820 is needed for the determination of disability by the State DDSs. The respondents are applicants for Title XVI (SSI) child disability benefits.

Number of Respondents: 523,000.

Frequency of Response: 1.

Average Burden Per Response: 40 minutes.

Estimated Annual Burden: 348,667 hours.

4. Disability Report-Adult—0960-0579. The Social Security Act requires claimants to furnish medical and other evidence to prove they are disabled. Applicants for disability benefits will complete form SSA-3368. The information will be used, in conjunction with other evidence, by State DDSs to develop medical evidence, to assess the alleged disability, and to make a disability determination. The respondents are adult applicants for Title II (OASDI) and Title XVI (SSI) disability benefits.

Number of Respondents: 2,116,667.

Frequency of Response: 1.

Average Burden Per Response: 60 minutes.

Estimated Annual Burden: 2,116,667 hours.

5. Wage Reports and Pension Information—0960-0547. The information required by 20 CFR 422.122(b) is used by SSA to identify the requester of pension plan information and to confirm that the individual is entitled to the data we provide. The respondents are requesters of pension plan information.

Number of Respondents: 600.

Frequency of Response: 1.

Average Burden Per Response: 30 minutes.

Estimated Annual Burden: 300 hours.

6. Beneficiary Recontact Report—0960-0502. SSA uses the information collected on Form SSA-1588-OCR-SM to ensure that eligibility for benefits continues after entitlement. SSA asks mothers/fathers information about their marital status and children in-care to detect overpayments and avoid continuing payment to those no longer entitled. The respondents are recipients of survivor mother/father Title II (OASDI) benefits.

Number of Respondents: 133,400.

Frequency of Response: 1.

Average Burden Per Response: 5 minutes.

Estimated Annual Burden: 11,117 hours.

7. Quiz Show—Internet Edition—0960-NEW.

Background

As stated in the 1997 Agency Strategic Plan, one of the SSA's five major goals is “To Strengthen Public Understanding of the Social Security Programs” so the public will understand what benefits are valuable to them personally. Accordingly, the public will be able to more effectively plan for retirement security. Under this goal, SSA established a strategic objective that, by 2005, 90% of the public will be knowledgeable about SSA programs. In establishing this goal SSA recognized the need to develop innovative methods to help educate and continually measure the public's knowledge of SSA programs.

The Collection—“Quiz Show”

SSA intends to implement an online interactive educational game entitled “Quiz Show—Internet Edition”. The purpose of Quiz Show is to help support the Agency's goal of increasing the public's understanding of Social Security programs.

Quiz Show will consist of 10 questions, which are based on 8 key messages about SSA programs that the Agency wants the public to understand. Participation in the online game will be strictly voluntary. Data collected through each Quiz Show question will measure the overall responses for the purpose of gauging the public's knowledge of each key Social Security message.

SSA will implement Quiz Show in stages, with the initial stage providing performance feedback to the user. However, eventually SSA will use Quiz Show to collect performance data and demographic data. SSA will not require users to provide demographic data to play the game. Rather, users would be asked to provide this data voluntarily. Questions related to demographics are for the sole purpose of identifying audiences to whom specific key messages should be targeted to increase their knowledge. Respondents to Quiz Show will be individuals who visit SSA's website, Social Security Online, and elect to play the online game.

Number of Respondents: 12,000.

Frequency of Response: 1.

Average Burden Per Response: 8 minutes.

Estimated Annual Burden: 1,600 hours.

8. Work History Report—0960-0578. The information collected on form SSA-3369 is needed to determine disability by the State DDSs. The information will be used to document an individual's past work history. The respondents are applicants for disability benefits.

Number of Respondents: 1,000,000.

Frequency of Response: 1.

Average Burden Per Response: 30 minutes.

Estimated Annual Burden: 500,000 hours.

9. Internet Social Security Benefits Application—0960-0618. The Internet Social Security Benefits Application (ISBA), which is available at the Social Security Administration's (SSA) Internet site, is one application that the Commissioner of Social Security prescribes to meet the requirement to file an application for benefits. Currently, the ISBA can only be used to apply for retirement and spouse's benefits. SSA plans to expand ISBA to encompass surviving spouse (i.e., widow and widower) benefits. The expanded ISBA will enable individuals to complete the application electronically on their own and submit the application over the Internet. Until SSA develops an acceptable electronic signature process, applicants will also print, sign and mail the IBSA statement with the required evidence that supports their benefit application. The information that SSA collects will be used to determine entitlement to Social Security benefits. The respondents are individuals who choose to apply for Social Security benefits over the Internet.

Number of Respondents: 150,000.

Frequency of Response: 1.

Average Burden Per Response: 25 minutes.

Estimated Annual Burden: 62,500 hours.

II. The information collection listed below has been submitted to OMB for clearance. Your comments on the information collection would be most useful if received by OMB and SSA within 30 days from the date of this publication. You can obtain a copy of the OMB clearance package by calling the SSA Reports Clearance Officer on (410) 965-4145, or by writing to him at the address listed above.

Function Report—Adult; 0960-0603. Form SSA-3373-TEST is used by the SSA to record the claimant's description of his or her impairment-related limitations and ability to function. The respondents are Applicants for Title II (Old-Age, Survivors and Disability Insurance) and Title XVI (Supplemental Security Income) benefits.

Number of Respondents: 7,000.

Frequency of Response: 1.

Average Burden Per Response: 30.

Estimated Annual Burden: 3,500.

Dated: March 26, 2001.
Frederick W. Brickenkamp,
Reports Clearance Officer.

[FR Doc. 01-8000 Filed 3-30-01; 8:45 am]

BILLING CODE 4191-02-P